DEPARTMENT OF THE INTERIOR

Fish and Wildlife Service

[FWS-R8-ES-2016-N049; FXES11130800000-167-FF08ENVS00]

Application for an Enhancement of Survival Permit for the Proposed Springs Preserve Safe Harbor Agreement, Las Vegas, Clark County, Nevada

AGENCY: Fish and Wildlife Service, Interior.

ACTION: Notice of availability; receipt of application and request for comment.

SUMMARY: We, the U.S. Fish and Wildlife Service (Service), have received an application from the Las Vegas Valley Water District (applicant) for an enhancement of survival permit under the Endangered Species Act of 1973, as amended (Act). The permit application includes a proposed safe harbor agreement (SHA) between the applicant and the Service. The SHA provides for voluntary activities that will contribute to the recovery of the Pahrump poolfish. We have made a preliminary determination that the proposed SHA and permit application are eligible for categorical exclusion under the National Environmental Policy Act of 1969 (NEPA).

DATES: Written comments must be received on or before May 12, 2016.

ADDRESSES: Comments should be addressed to Michael J. Senn, Field Supervisor, by U.S. mail at Southern Nevada Fish and Wildlife Office, 4701 North Torrey Pines Drive, Las Vegas, NV 89130; or by fax to 702-515-5231 (see Public Review and Comment under SUPPLEMENTARY INFORMATION).

FOR FURTHER INFORMATION CONTACT: James Harter, Fish Biologist, at the Southern Nevada Fish and Wildlife Office address, or by telephone at 702-515-5230.

SUPPLEMENTARY INFORMATION: We have received an application from the Las Vegas Valley Water District (applicant) for an enhancement of survival permit under the Endangered Species Act of 1973, as amended (Act; 16 U.S.C. 1531 et seq.). The permit application includes a proposed safe harbor agreement (SHA) between the applicant and the Service. The SHA provides for voluntary habitat restoration, maintenance, enhancement, or creation activities that will contribute to the recovery of the Pahrump poolfish (Empetrichthys latos). The proposed duration of both the SHA and permit is for 15 years, with an option to extend an additional 15 years.

We have made a preliminary determination that the proposed SHA and permit application are eligible for categorical exclusion under the National Environmental Policy Act of 1969 (NEPA). The basis for this determination is contained in an environmental Action Statement, which is also available for public review.

Background

The primary objective of this SHA is to encourage voluntary creation and maintenance of habitat to benefit the Pahrump poolfish by assuring the property owners that they will not be subjected to increased property use restrictions as a result of their efforts to establish a population of a listed species on their property, to increase the distribution and number of refugia within the range of the listed species. Application requirements and issuance criteria for enhancement of survival permits through SHAs are found in 50 CFR 17.22 and 17.32(c). As long as the enrolled landowner allows the agreed-upon conservation measures to be completed on their property and maintains their baseline responsibilities, they may make any other lawful use of the property during the permit term, even if such use results in the take of individual Pahrump poolfish or harm to their habitat as described in the SHA.

The landowner has suitable habitat for the establishment of a refugium that will contribute to the conservation of the species. The applicant has provided a SHA to the Service that includes: (1) A map of the property and its legal description; (2) a description of existing biological community, including nonnative aquatic species and sensitive or protected species; (3) the portion of the property to be enrolled and its acreage; (4) a description of the habitat types that occur on the property to be enrolled, including a description of the ponds and other aquatic habitats; and (5) current land use practices and existing developments, and the characteristics of water supplies to aquatic habitats.

The applicant, as the permittee, will be responsible for annual monitoring and reporting related to implementation of the SHA and fulfillment of their provisions. As specified in the SHA, the applicant will issue yearly reports to the Service related to implementation of the program.

Therefore, we have made a preliminary determination that our proposed issuance of the requested permit qualifies as a categorical exclusion under the National Environmental Policy Act, as provided by Department of the Interior implementing regulations in part 46 of title 43 of the Code of Federal Regulations (43 CFR 46.205, 46.210, and 46.215), based on the following criteria: (1) Implementation of the SHA would result in minor or negligible effects on federally listed, proposed, and candidate species and their habitats; (2) implementation of the SHA would result in minor or negligible effects on other environmental values or resources; and (3) impacts of the SHA, considered together with impacts of other past, present, and reasonably foreseeable similarly situated projects, would not result, over time, in cumulative effects to environmental values or resources that would be considered significant. This is more fully explained in our environmental action statement.

Based upon this preliminary determination, we do not intend to prepare further NEPA documentation. We will consider public comments in making our final determination on whether to prepare such additional documentation.

Public Review and Comments

Individuals wishing copies of the permit application, the environmental action statement, or copies of the full text of the SHA, including a map of the proposed permit area, references, and legal descriptions of the proposed permit area, should contact the office and personnel listed in the FOR FURTHER INFORMATION CONTACT section or obtain copies from our Web site, http://www.fws.gov/nevada. Documents also will be available for public inspection, by appointment, during normal business hours at our office (see ADDRESSES).

Before including your address, phone number, email address, or other personal identifying information in your comment, you should be aware that your entire comment—including your personal identifying information—may be made publicly available at any time. While you can ask us in your comment to withhold your personal identifying information from public review, we cannot guarantee that we will be able to do so.

Decision

We will evaluate the permit application, the SHA, and comments submitted thereon to determine whether the application meets the requirements of section 10(a) of the Act and NEPA regulations. If the requirements are met, the Service will sign the proposed SHA and issue an enhancement of survival permit under section 10(a)(1)(A) of the Act to the applicant for take of the Pahrump poolfish incidental to otherwise lawful activities of the project. We will not make a final decision until after the end of the 30-day comment period, and we will fully consider all comments received during the comment period.

Authority

We provide this notice under section 10(c) of the Act (16 U.S.C. 1531 et seq.) and its implementing regulations (50 CFR 17.22 and 17.32), and the National Environmental Policy Act (42 U.S.C. 4371 et seq.) and its implementing regulations (40 CFR 1506.6).

Dated: March 31, 2016.
Michael J. Senn,
Field Supervisor, Southern Nevada Fish and Wildlife Office, Las Vegas, Nevada.

[FR Doc. 2016-08344 Filed 4-11-16; 8:45 am]

BILLING CODE 4333-15-P